DEPARTMENT OF THE TREASURY

Office of Foreign Assets Control

Additional Designation of Entities Pursuant to Executive Order 13382

AGENCY: Office of Foreign Assets Control, Treasury.

ACTION: Notice.

SUMMARY: The Treasury Department's Office of Foreign Assets Control (“OFAC”) is publishing the names of 7 newly-designated entities and 7 newly-designated individuals whose property and interests in property are blocked pursuant to Executive Order 13382 of June 28, 2005, “Blocking Property of Weapons of Mass Destruction Proliferators and Their Supporters.”

DATES: The designation by the Director of OFAC of the 7 entities and 7 individuals identified in this notice pursuant to Executive Order 13382 is effective on February 1, 2011.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/offices/enforcement/ofac) or via facsimile through a 24-hour fax-on demand service, tel.: (202) 622-0077.

Background

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 29, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

On February 1, 2011, the Director of OFAC, in consultation with the Departments of State, Justice, and other relevant agencies, designated 7 entities and 7 individuals whose property and interests in property are blocked pursuant to Executive Order 13382.

The list of additional designees is as follows:

Entities:

1. CARVANA COMPANY, Number 39, Alvand St., 1st Floor, Argentine Square, Tehran 1516674311, Iran; 1st Apadana St., Number 478, Esfahan 81658, Iran [NPWMD].

2. MACHINE PARDAZAN CO. (a.k.a. MACHINE PARDAZAN CO. LTD.; a.k.a. MACHINE PARDAZAN LTD.), Number 39, Alvand St., 1st Floor, Argentine Square, Tehran, Iran; Km 12 Karadj Special Rd., North Chitgar, Rajaii Ave., Number 1, Tehran, Iran; No. 7, Daftari Ave., Zafar St., Shariati St., Tehran, Iran [NPWMD].

3. MACPAR MAKINA SAN VE TIC A.S. (a.k.a. MACPAR MAKINA; a.k.a. “MAKPA”), Sehidler Caddesi No: 79/2 Tuzla, Istanbul 34940, Turkey; Istanbul Chamber of Comm. No. 537070 (Turkey) [NPWMD].

4. MULTIMAT IC VE DIS TICARET PAZARLAMA LIMITED SIRKETI (a.k.a. MULTIMAT DOMESTIC AND FOREIGN TRADE MARKETING LTD.; a.k.a. MULTIMAT TEHRAN), Bagdat Caddesi, Burc Sitesi, Number 117 A Blok D.2, Feneryolu—Kadkoy, Istanbul, Turkey; Number 39, Alvand St., 1st Floor, Argentine Square, Tehran, Iran; V.A.T. Number Goztepe V.D. 823 026 0248 (Turkey) [NPWMD].

5. STEP A.S. (a.k.a. STANDARD TECHNICAL COMPONENT INDUSTRY AND TRADE COMPANY; a.k.a. STANDART TEKNIK PARCA SAN VE TIC A.S.; a.k.a. STEP ISTANBUL; a.k.a. STEP S.A.; a.k.a. STEP STANDARD TECHNICAL COMPONENTS INDUSTRY AND TRADING CORPORATION), DES San. Sitesi, A13 Blok, No. 4 Y. Dudullu, Istanbul 81260, Turkey; Bahariye Cad., No. 44, K6, Kadikoy, Istanbul, Turkey [NPWMD].

6. MARANER HOLDINGS LIMITED, 143 Flat 1, Tower Road, Sliema, Malta; Business Registration Document # C33482 (Malta) [NPWMD].

7. ROYAL-MED SHIPPING AGENCY LTD, Rockap Apartments No. 20, New Street, Luqa, Malta; 143 Flat 1, Tower Road, Sliema, Malta; Business Registration Document # C47893 (Malta); Email Address md@royalmed.com.mt; alt. Email Address paffairs@royalmed.com.mt; alt. Email Address admin@royalmed.com.mt; Telephone: 0035620105010; Telephone: 0035620106381; Fax: 0035620106381; Fax: 0035621317172 [NPWMD].

Individuals:

1. DURANSOY, Cagri; DOB 4 Aug 1985; POB Kadikoy, Turkey; Passport TR-T 577847 (Turkey); alt. Passport 31/2857612/2007 (Turkey) (individual) [NPWMD].

2. DURANSOY, Muammer Kuntay; DOB 3 Jun 1953; POB Eskisehir, Turkey (individual) [NPWMD].

3. FALSAFI, Mahin, Number 7 Daftari, Dawudieh, Shariati Avenue, Tehran, Iran; DOB 20 Apr 1943; POB Tehran, Iran; Passport S2662712 (Iran) expires 16 Apr 2002 (individual) [NPWMD].

4. JAFARI, Mani; DOB 22 Mar 1977; POB Tehran, Iran; Passport 10734 (Iran) (individual) [NPWMD].

5. JAFARI, Milad; DOB 20 Sep 1974; POB Tehran, Iran; nationality Iran; Passport L8081303 (Iran) issued 14 Mar 2006 expires 14 Mar 2011 (individual) [NPWMD].

6. JAFARI, Mohammad Javad, Number 7 Daftari, Dawudieh, Shariati Avenue, Tehran, Iran; DOB 1945 (individual) [NPWMD].

7. BALDACCHINO, Adrian, Fiorella, Triq Tumas Fenech, Qormi, Malta; DOB 1 Jan 1974; citizen Malta; nationality Malta; National ID No. 326074M (Malta) (individual) [NPWMD].

Dated: April 8, 2011.
Adam J. Szubin,
Director, Office of Foreign Assets Control.

[FR Doc. 2011-9570 Filed 4-19-11; 8:45 am]

BILLING CODE 4811-AL-P